FEDERAL COMMUNICATIONS COMMISSION

47 CFR Part 73

[DA 02-2388; MB Docket No. 02-188; RM-10462]

Radio Broadcasting Services; Encinal, TX

AGENCY: Federal Communications Commission.

ACTION: Final rule.

SUMMARY: This document allots Channel 273A to Encinal, Texas, in response to a petition filed by Linda Crawford. See 67 FR 50851, August 6, 2002. The coordinates for Channel 273A at Encinal are 28-06-40 and 99-27-15. There is a site restriction 12.5 kilometers (7.8 miles) northwest of the community. With this action, this proceeding is terminated. A filing window for Channel 273A at Encinal will not be opened at this time. Mexican concurrence has been received for the allotment of Channel 273A at Encinal. Instead, the issue of opening this allotment for auction will be addressed by the Commission in a subsequent order.

DATES: Effective November 12, 2002.

FOR FURTHER INFORMATION CONTACT: Kathleen Scheuerle, Media Bureau, (202) 418-2180.

SUPPLEMENTARY INFORMATION: This is a summary of the Commission's Report and Order, MB Docket No. 02-188, adopted September 25, 2002, and released September 27, 2002. The full text of this Commission decision is available for inspection and copying during regular business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Encinal, Channel 273A.

Federal Communications Commission.
John A. Karousos,
Assistant Chief, Audio Division, Media Bureau.

[FR Doc. 02-26229 Filed 10-15-02; 8:45 am]

BILLING CODE 6712-01-P